DEPARTMENT OF AGRICULTURE

Forest Service

Rio Grande National Forest Over Snow Travel Management Project

AGENCY: Forest Service, Agriculture (USDA).

ACTION: Notice of intent to prepare an environmental impact statement.

SUMMARY: The Forest Service, U.S. Department of Agriculture, will prepare an environmental impact statement (EIS) to inform a decision about the designation of roads, trails, and areas of the Rio Grande National Forest (RGNF) which would be open to motorized over-snow use. The environmental impact statement will inform a decision about the classes of vehicles and times of year for which motorized over-snow use will be allowed on designated roads, trails, and areas. Roads, trails, and areas designated for motorized over-snow vehicle (OSV) use will be identified on an Over-Snow Vehicle Use Map which will specify the classes of vehicles and time of year for which use is designated on the Rio Grande National Forest. An additional map displaying the Desired Winter Recreation Opportunity Spectrum (ROS) settings will also be produced. The RGNF anticipates this travel management analysis based on the proposed action as presently described and the resulting decision may require an amendment to the Land Management Plan for the Forest.

DATES: Comments concerning the scope of the analysis must be received by June 14, 2024. The draft environmental impact statement is expected in the fall of 2025, and the final environmental impact statement is expected in the fall of 2026.

ADDRESSES: Send written comments to the Rio Grande National Forest, 1055 9th Street, Del Norte, Colorado 81132. Comments may also be sent electronically to https://cara.fs2c.usda.gov/Public/CommentInput?project=65529 or via facsimile to 719-657-5280.

FOR FURTHER INFORMATION CONTACT: Judi Perez, Forest Planner, by phone at 719-872-4008 or by email at judith.perez@usda.gov. Individuals who use telecommunications devices for the hearing impaired may call 711 to reach the Telecommunications Relay Service, 24 hours a day, every day of the year, including holidays.

SUPPLEMENTARY INFORMATION:

Purpose and Need for Action

There is a need to provide a manageable, designated system of National Forest System roads, National Forest System trails, and areas for OSV use across the Rio Grande National Forest that is consistent with and achieves the purposes of the Forest Service Travel Management Rule at 36 CFR part 212.

The purpose of this project is to effectively manage OSV use on the Rio Grande National Forest to:

• Provide high quality over-snow access and experiences.

• Ensure that OSV use occurs when there is adequate snow to protect underlying resources.

• Promote the safety of all Forest visitors and users.

• Enhance public enjoyment.

• Minimize impacts to natural and cultural resources.

• Minimize conflicts among the various uses.

• Identify roads and trails where the Forest Service or its contractors would conduct snow grooming for OSV use.

Proposed Action

The Rio Grande National Forest proposes to designate roads, trails, and areas on National Forest System land for public OSV use. These designations would be consistent with the requirements of the Travel Management Rule at 36 CFR 212 and will specifically address the requirements of Subpart C of those regulations.

The proposed action includes the following:

• Approximately 1,342,162 acres (73 percent) of the Rio Grande National Forest lands are proposed to be designated for public cross-country over-snow vehicle use.

• Approximately 260 miles of currently permitted groomed motorized routes are proposed for designation.

• Approximately 23 miles of non-motorized trail groomed for Nordic skiing using motorized equipment are proposed for designation.

• To reduce potential damage to resources, an unpacked minimum snow depth of 12 inches is required for OSV use on designated roads, trail,s and areas.

• Grooming on permitted routes may occur on unpacked snow depths equal to or greater than 18 inches.

• Grooming designated roads and trails will occur using a variety of methods including but not limited to special use permits, partnerships, and/or grants and agreements.

• Public OSV use in Special Designation Management Areas (MA) is restricted. This includes MA 4.1—Special Designation-Special Interest Areas, MA 4.2—Special Designation-Research Natural Areas, and MA 4.8—Ski-Based Areas. Some of these areas are currently permitted for over-snow use. Depending on the project decision, existing permits could be adjusted following completion of this analysis.

• Existing Forest Closure Orders in or around Wolf Creek Pass and Cumbres Pass are incorporated into the proposed action, as is the restriction of motorized use in congressionally designated wilderness.

A more detailed version of the proposed action and draft ROS maps are available on the RNGF website at https://www.fs.usda.gov/detail/riogrande/landmanagement/planning/?cid=fseprd1154726.

Minimization Criteria

Travel Management Regulations (36 CFR 212.55(b)) require the development of project specific minimization criteria. These minimization criteria will be developed and applied to each National Forest System Road, trail, and area designated for OSV use.

Desired Recreational Opportunity Spectrum

Recreation on national forests encompasses more than just the activities. The range of opportunities, access, use, and setting is the Recreation Opportunity Spectrum (ROS). Recreation Opportunity Spectrum describes the settings available across a landscape and the attributes associated with those settings. Initial winter ROS maps were developed as part of the proposal and are available on the Rio Grande National Forest website at: https://www.fs.usda.gov/detail/riogrande/landmanagement/planning/?cid=fseprd1154726.

Expected Impacts

Anticipated impacts could include the following:

(1) Reduce adverse resource impacts caused by unauthorized vehicle use and illegal travel off designated routes and areas.

(2) Reduce disturbance to wildlife caused by OSV use in important or critical wildlife habitat and disturbance during critical lifecycle period.

(3) Potential loss of recreational opportunity should existing routes be closed to motorized travel.

(4) Potential conflicts in accommodating increasing numbers and types of motorized users.

Responsible Official

The Responsible Official is Andrew Kelher, Deputy Forest Supervisor of the Rio Grande National Forest.

Scoping Comments and the Objection Process

This Notice of Intent initiates the formal scoping process that guides the development of the environmental impact statement. In this process the Forest Service is requesting comments on potential alternatives and impacts, and identification of any relevant information, studies, or analyses of any kind concerning impacts affecting the quality of the human environment. Additional public engagement opportunities will be held and will be announced on the RGNF website at https://www.fs.usda.gov/detail/riogrande/landmanagement/planning/?cid=fseprd1154726.

It is important that reviewers provide their comments at such times and in such manner that they are useful to the Forest Service's preparation of the final EIS; therefore, comments should be provided prior to the close of the comment period and should clearly articulate the reviewer's concerns and contentions.Commenting during scoping and any other designated opportunity to comment provided by the Responsible Official as prescribed by the applicable regulations will also govern eligibility to object once the final EIS and draft Record of Decision have been published.Comments received in response to this solicitation, including names and addresses of those who comment, will be part of the public record for this proposed action. Comments submitted anonymously will be accepted and considered; however, they will not be used to establish eligibility for the objection process.

Any decision about this project may be subject to 36 CFR 218 and/or 36 CFR 219 pre-decisional review (objection). Issues raised in objections must be based on previously submitted timely, specific written comments regarding the proposed project unless based on new information arising after designated opportunities.

Nature of Decision To Be Made

The project will designate National Forest System roads, trails, and areas where OSV use is permitted; these will be documented on an Over-snow Vehicle Use Map. This map will also specify the classes of vehicles and the time of year for which the use is designated. A map displaying the Desired Winter ROS settings will also be produced.

Dated: April 22, 2024.
Troy Heithecker,
Associate Deputy Chief, National Forest System.

[FR Doc. 2024-08932 Filed 4-29-24; 8:45 am]

BILLING CODE 3411-15-P